DEPARTMENT OF TRANSPORTATION

Federal Motor Carrier Safety Administration

[Docket No. FMCSA-2005-20721]

Qualification of Drivers; Exemption Applications; Diabetes

AGENCY: Federal Motor Carrier Safety Administration (FMCSA), DOT.

ACTION: Notice of applications for exemption from the diabetes standard; request for comments.

SUMMARY: This notice publishes the FMCSA's receipt of applications from five individuals for exemption from the diabetes mellitus prohibition in the Federal Motor Carrier Safety Regulations. If granted, the exemptions will enable these individuals to qualify as drivers of commercial motor vehicles (CMVs) in interstate commerce without meeting the requirement prescribed in 49 CFR 391.41(b)(3).

DATES: Comments must be received on or before June 6, 2005.

ADDRESSES: You may submit comments identified by any of the following methods. Please identify your comments by the DOT DMS Docket Number FMCSA-2005-20721.

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: Go to http://www.regulations.gov. Follow the on-line instructions for submitting comments.

Instructions: All submissions must include the agency name and docket number for this notice. For detailed instructions on submitting comments and additional information on the rulemaking process, see the Public Participation heading of the Supplementary Information section of this document. Note that all comments received will be posted without change to http://dms.dot.gov, including any personal information provided. Please see the Privacy Act heading under Regulatory Notices.

Docket: For access to the docket to read background documents or comments received, go to http://dms.dot.gov at any time or to Room PL-401 on the plaza level of the Nassif Building, 400 Seventh Street, SW., Washington, DC between 9 a.m. and 5 p.m. Monday through Friday, except Federal holidays.

FOR FURTHER INFORMATION CONTACT: Dr. Mary D. Gunnels, Office of Bus and Truck Standards and Operations, (202) 366-4001, FMCSA, Department of Transportation, 400 Seventh Street, SW., Washington, DC 20590-0001. Office hours are from 8 a.m. to 5 p.m., e.t., Monday through Friday, except Federal holidays.

SUPPLEMENTARY INFORMATION: Public Participation: The DMS is available 24 hours each day, 365 days a year. You can get electronic submission and retrieval help guidelines under the “help” section of the DMS Web site. If you want us to notify you that we received your comments, please include a self-addressed, stamped envelope or postcard or print the acknowledgment page that appears after submitting comments online.

Privacy Act: Anyone is able to search the electronic form of all comments received into any of our dockets by the name of the individual submitting the comment (or signing the comment, if submitted on behalf of an association, business, labor union, etc.). You may review the Department of Transportation's complete Privacy Act statement in the Federal Register published April 11, 2000 (Volume 65, Number 70; pages 19477-78) or you may visit http://dms.dot.gov.

Background

Under 49 U.S.C. 31315 and 31136(e), the FMCSA may grant an exemption for a 2-year period if it finds “such exemption would likely achieve a level of safety that is equivalent to, or greater than, the level that would be achieved absent such exemption.” The statute also allows the agency to renew exemptions at the end of the 2-year period. The five individuals listed in this notice have recently requested an exemption from the diabetes prohibition in 49 CFR 391.41(b)(3), which applies to drivers of CMVs in interstate commerce. Accordingly, the agency will evaluate the qualifications of each applicant to determine whether granting the exemption will achieve the required level of safety mandated by the statute.

Qualifications of Applicants

1. Gerald E. Huelle

Mr. Huelle, age 57, has had insulin-treated diabetes mellitus since 1994. He has had no hypoglycemic reactions resulting in loss of consciousness, requiring the assistance of another person, or resulting in impaired cognitive function that occurred without warning in the past 5 years. His endocrinologist examined him in 2004 and stated he “is quite well versed on how to treat either hyperglycemia or hypoglycemia should it occur. Jerry [Gerald] has shown a very good level of motivation to try to control his diabetes. He is also very much capable of monitoring his blood sugars and managing his insulin.” He meets the requirements of the vision standard at 49 CFR 391.41(b)(10). His ophthalmologist examined him in 2004 and stated, “You have no diabetic retinopathy.” Mr. Huelle reported he has driven straight trucks for 43 years, accumulating 172,000 miles, and tractor-trailer combinations 33 years, accumulating 2.4 million miles. He holds a Class A commercial driver's license (CDL) from Wyoming. His driving record shows no crashes and one conviction for a moving violation—speeding—in a CMV for the past 3 years. He exceeded the speed limit by 20 mph.

2. Lee R. Kumm

Mr. Kumm, 52, has had insulin-treated diabetes since 1986. He has had no hypoglycemic reactions resulting in loss of consciousness, requiring the assistance of another person, or resulting in impaired cognitive function that occurred without warning in the past 5 years. His endocrinologist examined him in 2004 and stated, “He has demonstrated a willingness to monitor and manage his diabetes. He meets with the dietitian and an R.N. [Registered Nurse] in the hospital diabetes center a minimum of twice a year.” He meets the requirements of the vision standard at 49 CFR 391.41(b)(10). His ophthalmologist examined him in 2005 and stated, “Each retina reveals mild diabetic changes but no evidence of any visual threat on account of diabetes or any other ocular problem. Your eyes have been stable for a number of years.” Mr. Kumm submitted that he has driven straight trucks for 4 years, accumulating 240,000 miles, and tractor-trailer combinations for 5 years, accumulating 490,000 miles. He holds a Class ABCDM CDL from Wisconsin. His driving record shows no accidents or convictions for moving violations in a CMV for the past 3 years.

3. Mitchell L. Pullen

Mr. Pullen, 47, has had insulin-treated diabetes mellitus since 1968. He has had no hypoglycemic reactions resulting in loss of consciousness, requiring the assistance of others, or resulting in impaired cognitive function that occurred without warning within the last 5 years. His endocrinologist examined him in 2004 and stated, “He is showing very good ability in management and understanding procedures.” He has completed 6 hours of diabetes education, including recognizing and treating hypoglycemia. He meets the requirements of the vision standard at 49 CFR 391.41(b)(10). His ophthalmologist examined him in 2004 and stated he has a history of proliferative diabetic retinopathy, which has been stabilized with laser photocoagulation. Mr. Pullen reported he has driven straight trucks for 10 years, accumulating 50,000 miles, and tractor-trailer combinations for 22 years, accumulating 2.6 million miles. He holds a Class A CDL from Nebraska. His driving record shows no accidents or convictions for moving violations in a CMV for the past 3 years.

4. Charles E. Wheat, Sr.

Mr. Wheat, 69, has had insulin-treated diabetes mellitus for the past 14 years. He has had no hypoglycemic reactions resulting in loss of consciousness, requiring the assistance of others, or resulting in impaired cognitive function that occurred without warning within the last 5 years. His endocrinologist examined him in 2004 and stated, “Mr. Wheat has completed diabetes education and is doing a good job of monitoring and self-management of his diabetes. Mr. Wheat has been educated in corrective action when blood sugars are too high or too low. I am confident that he has knowledge of these skills and has mastered them.” He meets the requirements of the vision standard at 49 CFR 391.41(b)(10). His ophthalmologist examined him in 2004 and stated, “He shows no signs of diabetic retinopathy.” Mr. Wheat stated he has driven straight trucks for 5 years, accumulating 65,000 miles, and tractor-trailer combinations for 20 years, accumulating 1.3 million miles. He holds a Class A CDL from Mississippi. His driving record for the last 3 years shows no crashes or convictions for moving violations in a CMV.

5. Steven R. Zoller

Mr. Zoller, 36, has had insulin-treated diabetes mellitus since 2001. He has had no hypoglycemic reactions resulting in loss of consciousness, requiring the assistance of others, or resulting in impaired cognitive function that occurred without warning in the past 5 years. His endocrinologist examined him in 2004 and certified, “Mr. Zoller has been educated with regard to diabetes and its management and understands the procedures that should be followed if complications arise. He has demonstrated willingness to properly monitor and manage his diabetes.” He meets the requirements of the vision standard at 49 CFR 391.41(b)(10). His ophthalmologist examined him in 2004 and certified, “Dilated fundus examination reveals no evidence of any diabetic retinopathy.” Mr. Zoller reported he has driven straight trucks for 16 years, accumulating 560,000 miles, and tractor-trailer combinations for 3 years, accumulating 150,000 miles. He holds a Class A CDL from Minnesota. His driving record shows no accidents or convictions for moving violations in a CMV for the past 3 years.

Request for Comments

In accordance with 49 U.S.C. 31315 and 31136(e), the FMCSA requests public comment from all interested persons on the exemption petitions described in this notice. We will consider all comments received before the close of business on the closing date indicated earlier in the notice.

Issued on: April 25, 2005.
Rose A. McMurray,
Associate Administrator, Policy and Program Development.

[FR Doc. 05-8973 Filed 5-2-05; 1:07 pm]

BILLING CODE 4910-EX-P